DEPARTMENT OF THE TREASURY

Internal Revenue Service

Open Meeting of the Taxpayer Assistance Center Committee of the Taxpayer Advocacy Panel

AGENCY: Internal Revenue Service (IRS) Treasury.

ACTION: Notice of meeting.

SUMMARY: An open meeting of the Taxpayer Assistance Center Committee of the Taxpayer Advocacy Panel will be conducted in Chicago, Illinois. The Taxpayer Advocacy Panel (TAP) is soliciting public comments, ideas, and suggestions on improving customer service at the Internal Revenue Service.

DATES: The meeting will be held Thursday, November 1, 2007, Friday, November 2, 2007, and Saturday, November 3, 2007.

FOR FURTHER INFORMATION CONTACT: Dave Coffman at 1-888-912-1227, or 206-220-6096.

SUPPLEMENTARY INFORMATION: Notice is hereby given pursuant to section 10(a)(2) of the Federal Advisory Committee Act, 5 U.S.C. App. (1988) that an open meeting of the Taxpayer Assistance Center Committee of the Taxpayer Advocacy Panel will be held Thursday, November 1, 2007, from 1 to 5 p.m. Central Time; Friday, November 2, 2007, from 8:30 a.m. to 5 p.m. Central Time; and Saturday, November 3, 2007, from 8:30 to 11:30 a.m. Central Time, at 20 W. Kinzie Street, Chicago, Illinois. If you would like to have the TAP consider a written statement, please call 1-888-912-1227 or 206-220-6096, or write to Dave Coffman, TAP Office, 915 2nd Avenue, MS W-406, Seattle, WA 98174, or you can contact us at http://www.improveirs.org. Due to limited space, notification of intent to participate in the meeting must be made with Dave Coffman. Mr. Coffman can be reached at 1-888-912-1227 or 206-220-6096.

The agenda will include the following: Various IRS issues.

Dated: September 28, 2007.
Sandra L. McQuin,
Acting Director, Taxpayer Advocacy Panel.

[FR Doc. E7-19978 Filed 10-10-07; 8:45 am]

BILLING CODE 4830-01-P